DEPARTMENT OF THE INTERIOR

Bureau of Land Management

[AK990-2000-5101-NH-FL07-262F]

Information Collection Submitted to the Office of Management and Budget for Review Under the Paperwork Reduction Act

The Bureau of Land Management (BLM) has submitted a proposed information collection to the Office of Management and Budget (OMB) for approval under the Paperwork Reduction Act of 1995 (44 U.S.C. Chapter 35). The proposed information collection is the Trans-Alaska Pipeline System Survey of the Employee Concerns Program. On November 17, 1999, BLM published a notice in the Federal Register requesting comments on the proposed information collection (64 FR 62684). The comment period closed on January 18, 2000. We received no public comments as a result of that notice.

You can obtain copies of the proposed information collection and explanatory material by contacting BLM's Clearance Officer at the telephone number listed below. OMB must complete its review within 60 days, but may complete it after 30 days. For a maximum consideration, your comments and suggestions on the requirements should be made within 30 days directly to the Office of Management and Budget, Office of Information and Regulatory Affairs, (1004-NEW), 725 17th Street, N.W., Washington, DC 20503.

Nature of Comments

We specifically request your comments on the following:

1. Whether the collection of information is necessary for the proper functioning of BLM, including whether the information will have practical utility;

2. The accuracy of BLM's estimate of the burden associated with collecting the information, including the validity of the methodology and assumptions used;

3. The quality, utility and clarity of the information to be collected; and

4. How to minimize the burden of collecting the information on those who are to respond, including the use of appropriate automated electronic, mechanical, and other forms of information technology.

Title: Trans-Alaska Pipeline System Survey of the Employee Concerns Program.

OMB Approval Number: 1004-(NEW).

Abstract: Testimony at Congressional hearings in 1992 and 1994 indicted that Alyeska, the contractor what operates the Trans-Alaska Pipeline system (TAPS), maintains a repressive, retaliatory atmosphere to discourage workers from raising concerns about operation of the pipeline. Congress requested that Alyeska take steps to change the culture of the pipeline work environment and asked the Joint Pipeline Office (JPO) to monitor and report on progress. JPO will use this survey to gather opinions form Alyeska and other contractors' employees and supervisors about how well the Employee concerns Program (ECP) is working. JPO will use the results to measure, compare, and report on employee satisfaction with the ECP as a way to assess whether repressive culture is changing.

Frequency: Annually.

Description of respondents: Employees of Alyeska Pipeline Service Company and contractors.

Estimated completion time: 15 minutes for each survey.

Annual responses: 1,100.

Estimated burden hours: 550 per year.

Bureau Clearance Officer: Carole Smith, 202/452-0367.

Dated: April 7, 2000.
Carole J. Smith,
Bureau Information Clearance Officer.

[FR Doc. 00-9178 Filed 4-12-00; 8:45 am]

BILLING CODE 4310-84-M